DEPARTMENT OF ENERGY

Federal Energy Regulatory Commission

Combined Notice of Filings #2

Take notice that the Commission received the following electric corporate filings:

Docket Numbers: EC17-76-000.

Applicants: Green Mountain Power Corporation..

Description: Application for Authorization Pursuant to Section 203 of the Federal Power Act, et al. of Green Mountain Power Corporation.

Filed Date: 2/3/17.

Accession Number: 20170203-5302.

Comments Due: 5 p.m. ET 2/24/17.

Docket Numbers: EC17-77-000.

Applicants: Pattern Energy Group LP, Pattern Energy Group Inc., Broadview Energy KW, LLC, Broadview Energy JN, LLC, Western Interconnect LLC.

Description: Application for Authorization for Disposition of Jurisdictional Facilities and Requests for Waivers, Confidential Treatment, and Expedited Consideration of Pattern Energy Group LP, et al.

Filed Date: 2/3/17.

Accession Number: 20170203-5304.

Comments Due: 5 p.m. ET 2/24/17.

Take notice that the Commission received the following electric rate filings:

Docket Numbers: ER16-750-005; ER16-2659-003; ER15-2191-004; ER15-647-005

Applicants: Bethel Wind Farm LLC, Grant Plains Wind, LLC, Grant Wind, LLC, Kay Wind, LLC.

Description: Notification of Non-Material Change in Status of Bethel Wind Farm LLC, et al.

Filed Date: 2/6/17.

Accession Number: 20170206-5155.

Comments Due: 5 p.m. ET 2/27/17.

Docket Numbers: ER17-335-001.

Applicants: PJM Interconnection, L.L.C.

Description: Compliance filing: Compliance Filing Pursuant to the January 6 Order RE Release of Capacity to be effective 1/9/2017.

Filed Date: 2/6/17.

Accession Number: 20170206-5188.

Comments Due: 5 p.m. ET 2/27/17.

Docket Numbers: ER17-446-001.

Applicants: New York Independent System Operator, Inc.

Description: Compliance filing: Compliance—remove one-year transition mechanism for capacity exports to be effective 1/29/2017.

Filed Date: 2/6/17.

Accession Number: 20170206-5167.

Comments Due: 5 p.m. ET 2/27/17.

Docket Numbers: ER17-941-000.

Applicants: New York Independent System Operator, Inc.

Description: § 205(d) Rate Filing: NYISO filing re: pivotal supplier status in a mitigated capacity zone to be effective 4/7/2017.

Filed Date: 2/6/17.

Accession Number: 20170206-5098.

Comments Due: 5 p.m. ET 2/27/17.

Docket Numbers: ER17-942-000.

Applicants: Lazarus Energy Holdings, LLC.

Description: Compliance filing: Refile Baseline for Name Revision for Lazarus Energy MBR Tariff to be effective 1/23/2017.

Filed Date: 2/6/17.

Accession Number: 20170206-5163.

Comments Due: 5 p.m. ET 2/27/17.

Docket Numbers: ER17-943-000.

Applicants: Arizona Public Service Company.

Description: Tariff Cancellation: Cancellation of Service Agreement Nos. 306 and 307 to be effective 4/8/2017.

Filed Date: 2/6/17.

Accession Number: 20170206-5169.

Comments Due: 5 p.m. ET 2/27/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 6, 2017.
Nathaniel J. Davis, Sr.,
Deputy Secretary.

[FR Doc. 2017-02776 Filed 2-9-17; 8:45 am]

BILLING CODE 6717-01-P